INTERNATIONAL TRADE COMMISSION

[Investigations Nos. 731-TA-96 and 439-445 (Review)]

Industrial Nitrocellulose From Brazil, China, France, Germany, Japan, Korea, the United Kingdom, and Yugoslavia

AGENCY: International Trade Commission.

ACTION: Revised schedule for the subject reviews.

EFFECTIVE DATE: June 16, 2000.

FOR FURTHER INFORMATION CONTACT: D.J. Na (202-708-4727), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: Effective October 15, 1999, the Commission established a schedule for the conduct of the subject reviews (64 FR 57483, October 25, 1999). Effective February 1, 2000, the Commission revised its schedule for the reviews (65 FR 5889, February 7, 2000), pursuant to a request for a two-month extension by counsel for Wolff Walsrode AG, a German producer, and Bayer Corporation, a German importer. In order to carefully evaluate recent important developments in the industrial nitrocellulose industry, the Commission has further determined to exercise its authority to extend the review period by up to 90 days pursuant to 19 U.S.C. 1675(c)(5)(B), and is hereby revising its schedule.

The Commission's new schedule for the reviews is as follows: the Commission will make its final release of information on August 2, 2000; and final party comments are due on August 8, 2000.

For further information concerning these reviews, see the Commission's notices cited above and the Commission's Rules of Practice and Procedure, part 201, subparts A through E (19 CFR part 201), and part 207, subparts A and F (19 CFR part 207).

Authority: These reviews are being conducted under authority of title VII of the Tariff Act of 1930; this notice is published pursuant to section 207.62 of the Commission's rules.

Issued: June 19, 2000.
By order of the Commission.
Donna R. Koehnke,
Secretary.

[FR Doc. 00-16095 Filed 6-23-00; 8:45 am]

BILLING CODE 7020-02-M